ENVIRONMENTAL PROTECTION AGENCY

[EPA-HQ-OAR-2024-0275; FRL-12700-01-OMS]

Agency Information Collection Activities; Submission to the Office of Management and Budget for Review and Approval; Comment Request; NSPS for Municipal Solid Waste Landfills (Renewal)

AGENCY: Environmental Protection Agency (EPA).

ACTION: Notice.

SUMMARY: The Environmental Protection Agency (EPA) has submitted an information collection request (ICR), NSPS for Municipal Solid Waste Landfills (EPA ICR Number 2498.05, OMB Control Number 2060-0697) to the Office of Management and Budget (OMB) for review and approval in accordance with the Paperwork Reduction Act. This is a proposed extension of the ICR, which is currently approved through March 31, 2025. Public comments were previously requested via the Federal Register on August 6, 2024 during a 60-day comment period. This notice allows for an additional 30 days for public comments.

DATES: Comments may be submitted on or before April 28, 2025.

ADDRESSES: Submit your comments, referencing Docket ID Number EPA-HQ-OAR-2024-0275, to EPA online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division, Office of Air Quality Planning and Standard, D243-05, Environmental Protection Agency, 1200 Pennsylvania Ave. NW, Washington, DC 20460; telephone number: (919) 541-0833; email address: ali.muntasir@epa.gov.

SUPPLEMENTARY INFORMATION: This is a proposed extension of the ICR, which is currently approved through March 31, 2025. An agency may not conduct or sponsor and a person is not required to respond to a collection of information unless it displays a currently valid OMB control number.

Public comments were previously requested via the Federal Register on August 6, 2024 during a 60-day comment period (89 FR 63933). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The New Source Performance Standards (NSPS) for Municipal Solid Waste Landfills (40 CFR part 60, subpart XXX) were promulgated August 29, 2016 (81 FR 59368) and amended on March 26, 2020 (85 FR 17261). These standards apply to municipal solid waste landfills that commenced construction, modification, or reconstruction after July 17, 2014 with a design capacity threshold of 2.5 million Mg and 2.5 million cubic meters. This information is being collected to assure compliance with 40 CFR part 60, subpart XXX.

Form Numbers: None.

Respondents/affected entities: Municipal solid waste landfills.

Respondent's obligation to respond: Mandatory (40 CFR part 60, subpart XXX).

Estimated number of respondents: 298 (total).

Frequency of response: Initially and annually.

Total estimated burden: 249,552 hours (per year). Burden is defined at 5 CFR 1320.03(b).

Total estimated cost: $19,740,398 (per year), which includes $1,183,287 annualized capital or operation & maintenance costs.

Changes in the Estimates: There is an increase of 74,252 hours in the total estimated respondent burden compared with the ICR currently approved by OMB. This increase is due to an increase in the number of respondents. The increased number of respondents is based on the assumption that the growth rate will continue to be 2 new sources per year and 25 modified sources per year that will become subject to this rule. Similarly, there is an increase in the estimated capital and operation & maintenance costs due to the increased number of respondents.

Courtney Kerwin,
Director, Information Engagement Division.

[FR Doc. 2025-05381 Filed 3-27-25; 8:45 am]

BILLING CODE 6560-50-P